DEPARTMENT OF LABOR

Employment and Training Administration

[TA-W-54,411]

Knowles Electronics, Itasca, IL; Notice of Termination of Investigation

Pursuant to section 221 of the Trade Act of 1974, as amended, an investigation was initiated on March 3, 2004, in response to a petition filed by a company official on behalf of workers at Knowles Electronics, Itasca, Illinois.

The petitioner has requested that the petition be withdrawn. Consequently, the investigation has been terminated.

Signed at Washington, DC, this 25th day of March, 2004.
Richard Church,
Certifying Officer, Division of Trade Adjustment Assistance.

[FR Doc. 04-7747 Filed 4-5-04; 8:45 am]

BILLING CODE 4510-30-P